DEPARTMENT OF TRANSPORTATION

Federal Aviation Administration

14 CFR Part 39

[Docket No. FAA-2007-29030; Directorate Identifier 2006-NM-284-AD; Amendment 39-15432; AD 2008-06-20]

RIN 2120-AA64

Airworthiness Directives; Fokker Model F.28 Mark 0070, 0100, 1000, 2000, 3000, and 4000 Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

Subsequent to accidents involving Fuel Tank System explosions in flight * * * and on ground, * * * Special Federal Aviation Regulation 88 (SFAR88) * * * required a safety review of the aircraft Fuel Tank System * * *.

* * * * *

Fuel Airworthiness Limitations are items arising from a systems safety analysis that have been shown to have failure mode(s) associated with an ‘unsafe condition’ * * *. These are identified in Failure Conditions for which an unacceptable probability of ignition risk could exist if specific tasks and/or practices are not performed in accordance with the manufacturers' requirements.

We are issuing this AD to require actions to correct the unsafe condition on these products.

DATES: This AD becomes effective April 23, 2008.

The Director of the Federal Register approved the incorporation by reference of certain publications listed in this AD as of April 23, 2008.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Tom Rodriguez, Aerospace Engineer, International Branch, ANM-116, FAA, Transport Airplane Directorate, 1601 Lind Avenue, SW., Renton, Washington 98057-3356; telephone (425) 227-1137; fax (425) 227-1149.

SUPPLEMENTARY INFORMATION:

Discussion

We issued a notice of proposed rulemaking (NPRM) to amend 14 CFR part 39 to include an AD that would apply to the specified products. That NPRM was published in the Federal Register on August 21, 2007 (72 FR 46572). That NPRM proposed to correct an unsafe condition for the specified products. The MCAI states:

Subsequent to accidents involving Fuel Tank System explosions in flight * * * and on ground, the FAA published Special Federal Aviation Regulation 88 (SFAR 88) in June 2001. SFAR 88 required a safety review of the aircraft Fuel Tank System to determine that the design meets the requirements of FAR (Federal Aviation Regulation) § 25.901 and § 25.981(a) and (b).

A similar regulation has been recommended by the JAA (Joint Aviation Authorities) to the European National Aviation Authorities in JAA letter 04/00/02/07/03-L024 of 3 February 2003. The review was requested to be mandated by NAA's (National Aviation Authorities) using JAR (Joint Aviation Regulation) § 25.901(c), § 25.1309.

In August 2005 EASA published a policy statement on the process for developing instructions for maintenance and inspection of Fuel Tank System ignition source prevention (EASA D 2005/CPRO, http://www.easa.eu.int/home/cert_policy_statements_en.html) that also included the EASA expectations with regard to compliance times of the corrective actions on the unsafe and the not unsafe part of the harmonised design review results. On a global scale the TC (type certificate) holders committed themselves to the EASA published compliance dates (see EASA policy statement). The EASA policy statement has been revised in March 2006: the date of 31-12-2005 for the unsafe related actions has now been set at 01-07-2006.

Fuel Airworthiness Limitations are items arising from a systems safety analysis that have been shown to have failure mode(s) associated with an ‘unsafe condition’ as defined in FAA's memo 2003-112-15 ‘SFAR 88—Mandatory Action Decision Criteria’. These are identified in Failure Conditions for which an unacceptable probability of ignition risk could exist if specific tasks and/or practices are not performed in accordance with the manufacturers' requirements.

This EASA Airworthiness Directive mandates the Fuel System Airworthiness Limitations, comprising maintenance/inspection tasks and Critical Design Configuration Control Limitations (CDCCL) for the type of aircraft, that resulted from the design reviews and the JAA recommendation and EASA policy statement mentioned above.

The corrective action includes revising the Airworthiness Limitations Section of the Instructions for Continued Airworthiness for certain airplanes, and the FAA-approved maintenance program for certain other airplanes, to incorporate new limitations for fuel tank systems. You may obtain further information by examining the MCAI in the AD docket.

Actions Since the NPRM Was Issued

Since we issued the NPRM, we have received Fokker Service Bulletin SBF28-28-050, Revision 1, dated January 8, 2008. (We referred to Fokker Service Bulletin F28/28-050, dated June 30, 2006, in the NPRM as an appropriate source of service information for accomplishing the required actions.) Revision 1 of the service bulletin includes editorial changes, changes to certain CDCCL control references, and changes to the compliance paragraph. We have changed paragraphs (f) and (h) of the AD to refer to Revision 1 of the service bulletin. We have also added a new paragraph (f)(5) to the AD to specify, in part, that actions done before the effective date of this AD in accordance with Fokker Service Bulletin F28/28-050, dated June 30, 2006, are acceptable for compliance with the corresponding requirements of this AD.

Operators should note that we have excluded the CDCCL component titled “Level Control Pilot Valve Solenoid, jiffy junction,” from the requirements of paragraph (f)(2)(i) of this AD. Fokker 70/100 Fuel Airworthiness Limitation Items (ALI) and Critical Design Configuration Control Limitations (CDCCL) Report SE-672, Issue 2, specifies that the appropriate reference for this CDCCL control has not yet been published. Therefore, we cannot include it in the requirements of this AD. We may consider additional rulemaking to address this item when the reference is available.

Comments

We gave the public the opportunity to participate in developing this AD. We considered the comments received.

Request To Refer to Later Revision of Report

SAM Airlines requests that we revise paragraph (f) of the AD to refer to Fokker 70/100 Fuel Airworthiness Limitation Items (ALI) and Critical Design Configuration Control Limitations (CDCCL) Report SE-672, Issue 2, dated December 1, 2006. SAM Airlines points out that EASA AD 2006-0208, dated July 12, 2006 (a parallel EASA Airworthiness Directive for this AD), includes provisions to use Issue 1 of the report “or later approved revisions.” However, the NPRM does not allow for use of later approved revisions of this report as an acceptable means of compliance. SAM Airlines would like to know if the use of later revisions of the report would require approval through the provisions of paragraph (g)(1) of the NPRM.

We agree with the commenter's request. In the NPRM, we referred to Issue 1, dated January 31, 2006, of the report as the appropriate source of service information for accomplishing the required actions. Issue 2 of the report includes the CDCCL control references, as published in the June 1, 2006, revision of the airplane maintenance manual. Issue 2 also changes task descriptions for the fuel ALIs in accordance with the Maintenance Review Board document.

We have revised paragraphs (f) and (h) of this AD to refer to Issue 2 of the report. We have also specified in the new paragraph (f)(5) of the AD that actions done before the effective date of this AD in accordance with Issue 1 of Report SE-672 are acceptable for compliance with the corresponding requirements of this AD. We also revised paragraph (f)(4) of this AD to allow the use of later revisions of the report, if those revisions are approved by the Manager, International Branch, ANM-116, FAA, or the European Aviation Safety Agency (EASA), or its delegated agent.

Request To Remove Reference to Service Information in Certain Paragraphs

SAM Airlines also requests that we remove the reference to Fokker Service Bulletin F28/28-050, dated June 30, 2006, from paragraphs (f)(1)(i) and (f)(2)(i) of the NPRM. SAM Airlines points out that those paragraphs apply only to Fokker Model F.28 Mark 0070 and 0100 airplanes, which are not included in Fokker Service Bulletin F28/28-050.

We agree with SAM Airlines for the reason stated. We infer that SAM Airlines also requests we remove the reference to Fokker 70/100 Fuel Airworthiness Limitation Items (ALI) and Critical Design Configuration Control Limitations (CDCCL) Report SE-672, Issue 1, dated January 31, 2006, from paragraphs (f)(1)(ii) and (f)(2)(ii) of the NPRM because those paragraphs apply only to Fokker Model F.28 Mark 1000, 2000, 3000, and 4000 airplanes, which are not included in Report SE-672. We have revised paragraphs (f)(1)(i), (f)(1)(ii), (f)(2)(i), and (f)(2)(ii) of the AD to refer only to the applicable documents.

Request To Clarify Changes to Maintenance Program

SAM Airlines also requests that we clarify paragraphs (f)(1)(i) and (f)(2)(i) of the NPRM regarding what changes are being made to the maintenance program. SAM states that the meaning of the word “limits” in paragraph (f)(1)(i) of the NPRM is unclear. In SAM Airlines’ interpretation, the intended action in paragraph (f)(1)(i) is to incorporate into the aircraft maintenance program the intervals of the fuel ALI tasks. If so, SAM Airlines requests that we revise the wording to say: “* * * Instructions for Continued Airworthiness and incorporate the Fuel ALI tasks and intervals specified in Fokker * * *.”

SAM Airlines also explains that accomplishing the CDCCL is unscheduled and requires distinguishing which inspection is needed in addition to the normal maintenance task. Therefore, it is not practical to incorporate the CDCCL into the aircraft maintenance program, as specified in paragraph (f)(2)(i) of the NPRM. SAM Airlines suggests the following wording to clarify paragraph (f)(2)(i) of the NPRM: “* * * Instructions for Continued Airworthiness and adhere to the CDCCL requirements as defined in Fokker * * *.”

We agree that clarification is necessary. This AD requires affected operators to revise their copies of their Airworthiness Limitations document to incorporate the fuel system limitation inspections. This consists of the inspections, thresholds, and intervals. We have added these terms to paragraphs (f)(1)(i) and (f)(1)(ii) of this AD. The AD also requires revising the Airworthiness Limitations Section (ALS) to incorporate the CDCCLs as defined in the applicable service information.

Further, for airplanes that do not have an ALI, this AD requires that operators revise the maintenance program to include the ALI inspections, thresholds, and intervals. It also requires incorporation of the CDCCLs as defined in the applicable service information to ensure that the specified design configurations are maintained whenever any work is performed.

Subsequently, section 91.403(c) of the Federal Aviation Regulations (14 CFR 91.403(c)) requires an affected operator to comply with the revised Airworthiness Limitations document. Ensuring that one's maintenance program and the actions of its maintenance personnel are in accordance with the Airworthiness Limitations is required, but not by the AD. According to 14 CFR 91.403(c), no person may operate an aircraft for which airworthiness limitations have been issued unless those limitations have been complied with. Therefore, there is no need to further expand the requirements of the AD beyond that which was proposed because 14 CFR 91.403(c) already imposes the appropriate required action after the airworthiness limitations are revised.

Explanation of Additional Changes Made to This AD

For standardization purposes, we have revised this AD in the following ways:

• In most ADs, we adopt a compliance time allowing a specified amount of time after the AD's effective date. In this case, however, the FAA has already issued regulations that require operators to revise their maintenance/inspection programs to address fuel tank safety issues. The compliance date for these regulations is December 16, 2008. To provide for coordinated implementation of these regulations and this AD, we are including this same compliance date in paragraphs (f)(1) and (f)(2) of this AD.

• We have simplified the language in Note 1 of this AD to clarify that an operator must request approval for an alternative method of compliance (AMOC) if an operator cannot accomplish the required inspections because an airplane has been previously modified, altered, or repaired in the areas addressed by the required inspections.

Conclusion

We reviewed the available data, including the comments received, and determined that air safety and the public interest require adopting the AD with the changes described previously. We determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD will affect 18 products of U.S. registry. We also estimate that it will take about 1 work-hour per product to comply with the basic requirements of this AD. The average labor rate is $80 per work-hour. Based on these figures, we estimate the cost of this AD to the U.S. operators to be $1,440, or $80 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-06-20 Fokker Services B.V.: Amendment 39-15432. Docket No. FAA-2007-29030; Directorate Identifier 2006-NM-284-AD.

Effective Date

(a) This airworthiness directive (AD) becomes effective April 23, 2008.

Affected ADs

(b) None.

Applicability

(c) This AD applies to Fokker Model F.28 Mark 0070 and 0100 airplanes, all serial numbers, certificated in any category; and Model F.28 Mark 1000, 2000, 3000, and 4000 airplanes, serial numbers 11003 through 11241, 11991 and 11992, certificated in any category.

Note 1: This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance according to paragraph (g)(1) of this AD. The request should include a description of changes to the required inspections that will ensure the continued operational safety of the airplane.

Subject

(d) Transport Association (ATA) of America Code 28: Fuel.

Reason

(e) The mandatory continuing airworthiness information (MCAI) states:

Subsequent to accidents involving Fuel Tank System explosions in flight * * * and on ground, the FAA published Special Federal Aviation Regulation 88 (SFAR 88) in June 2001. SFAR 88 required a safety review of the aircraft Fuel Tank System to determine that the design meets the requirements of FAR (Federal Aviation Regulation) § 25.901 and § 25.981(a) and (b).

A similar regulation has been recommended by the JAA (Joint Aviation Authorities) to the European National Aviation Authorities in JAA letter 04/00/02/07/03-L024 of 3 February 2003. The review was requested to be mandated by NAA's (National Aviation Authorities) using JAR (Joint Aviation Regulation) § 25.901(c), § 25.1309.

In August 2005 EASA published a policy statement on the process for developing instructions for maintenance and inspection of Fuel Tank System ignition source prevention (EASA D 2005/CPRO, http://www.easa.eu.int/home/cert_policy_statements_en.html) that also included the EASA expectations with regard to compliance times of the corrective actions on the unsafe and the not unsafe part of the harmonised design review results. On a global scale the TC (type certificate) holders committed themselves to the EASA published compliance dates (see EASA policy statement). The EASA policy statement has been revised in March 2006: The date of 31-12-2005 for the unsafe related actions has now been set at 01-07-2006.

Fuel Airworthiness Limitations are items arising from a systems safety analysis that have been shown to have failure mode(s) associated with an `unsafe condition' as defined in FAA's memo 2003-112-15 `SFAR 88—Mandatory Action Decision Criteria'. These are identified in Failure Conditions for which an unacceptable probability of ignition risk could exist if specific tasks and/or practices are not performed in accordance with the manufacturers' requirements.

This EASA Airworthiness Directive mandates the Fuel System Airworthiness Limitations, comprising maintenance/inspection tasks and Critical Design Configuration Control Limitations (CDCCL) for the type of aircraft, that resulted from the design reviews and the JAA recommendation and EASA policy statement mentioned above.

The corrective action includes revising the Airworthiness Limitations Section of the Instructions for Continued Airworthiness for certain airplanes, and the FAA-approved maintenance program for certain other airplanes, to incorporate new limitations for fuel tank systems.

Actions and Compliance

(f) Unless already done, do the following actions.

(1) Within 3 months after the effective date of this AD or before December 16, 2008, whichever occurs first, do the action in paragraph (f)(1)(i) or (f)(1)(ii) of this AD, as applicable. For all identified tasks, the initial compliance time starts from the effective date of this AD. The repetitive inspections must be accomplished thereafter at the intervals not to exceed those specified in Fokker 70/100 Fuel Airworthiness Limitation Items (ALI) and Critical Design Configuration Control Limitations (CDCCL) Report SE-672, Issue 2, dated December 1, 2006; or Fokker Service Bulletin SBF28-28-050, Revision 1, dated January 8, 2008; as applicable; except as provided by paragraphs (f)(3), (f)(4), and (g)(1) of this AD.

(i) For Model F.28 Mark 0070 and 0100 airplanes: Revise the Airworthiness Limitations Section (ALS) of the Instructions for Continued Airworthiness to incorporate the inspections, thresholds, and intervals specified in Fokker 70/100 Fuel Airworthiness Limitation Items (ALI) and Critical Design Configuration Control Limitations (CDCCL) Report SE-672, Issue 2, dated December 1, 2006.

(ii) For Model F.28 Mark 1000, 2000, 3000, and 4000 airplanes: Incorporate into the FAA-approved maintenance inspection program the inspections, thresholds, and intervals specified in Fokker Service Bulletin SBF28-28-050, Revision 1, dated January 8, 2008.

(2) Within 3 months after the effective date of this AD or before December 16, 2008, whichever occurs first, do the action in paragraph (f)(2)(i) or (f)(2)(ii) of this AD, as applicable.

(i) For Model F.28 Mark 0070 and 0100 airplanes: Revise the Airworthiness Limitations Section (ALS) of the Instructions for Continued Airworthiness to incorporate the CDCCLs as defined in Fokker 70/100 Fuel Airworthiness Limitation Items (ALI) and Critical Design Configuration Control Limitations (CDCCL) Report SE-672, Issue 2, dated December 1, 2006, except for the CDCCL component titled “Level Control Pilot Valve Solenoid, jiffy junction.”

(ii) For Model F.28 Mark 1000, 2000, 3000, and 4000 airplanes: Incorporate into the FAA-approved maintenance inspection program the CDCCLs as defined in Fokker Service Bulletin SBF28-28-050, Revision 1, dated January 8, 2008.

(3) Where Fokker 70/100 Fuel Airworthiness Limitation Items (ALI) and Critical Design Configuration Control Limitations (CDCCL) Report SE-672, Issue 2, dated December 1, 2006; and Fokker Service Bulletin SBF28-28-050, Revision 1, dated January 8, 2008; allow for exceptional short-term extensions, an exception is acceptable to the FAA if it is approved by the appropriate principal inspector in the FAA Flight Standards Certificate Holding District Office.

(4) After accomplishing the actions specified in paragraphs (f)(1) and (f)(2) of this AD, no alternative inspection, inspection interval, or CDCCL may be used, unless the inspection, interval, or CDCCL is part of a later revision of Fokker 70/100 Fuel Airworthiness Limitation Items (ALI) and Critical Design Configuration Control Limitations (CDCCL) Report SE-672, Issue 2, dated December 1, 2006; or Fokker Service Bulletin SBF28-28-050, Revision 1, dated January 8, 2008; as applicable; that is approved by the Manager, ANM-116, International Branch, Transport Airplane Directorate, FAA, or the European Aviation Safety Agency (EASA), or its delegated agent, or unless the inspection, interval, or CDCCL is approved as an alternative method of compliance (AMOC) in accordance with the procedures specified in paragraph (g)(1) of this AD.

(5) Actions done before the effective date of this AD in accordance with Fokker 70/100 Fuel Airworthiness Limitation Items (ALI) and Critical Design Configuration Control Limitations (CDCCL) Report SE-672, Issue 1, dated January 31, 2006; or Fokker Service Bulletin F28/28-050, dated June 30, 2006; are acceptable for compliance with the corresponding requirements of this AD.

Note 2: For Model F.28 Mark 1000, 2000, 3000, and 4000 airplanes, after an operator complies with the requirements of paragraphs (f)(1)(ii) and (f)(2)(ii) of this AD, those paragraphs do not require that operators subsequently record accomplishment of those requirements each time an applicable action is accomplished according to that operator's FAA-approved maintenance inspection program.

FAA AD Differences

Note 3: This AD differs from the MCAI and/or service information as follows: No differences.

Other FAA AD Provisions

(g) The following provisions also apply to this AD:

(1) Alternative Methods of Compliance (AMOCs): The Manager, International Branch, ANM-116, FAA, has the authority to approve AMOCs for this AD, if requested using the procedures found in 14 CFR 39.19. Send information to ATTN: Tom Rodriguez, Aerospace Engineer, International Branch, ANM-116, FAA, Transport Airplane Directorate, 1601 Lind Avenue, SW., Renton, Washington 98057-3356; telephone (425) 227-1137; fax (425) 227-1149. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI European Aviation Safety Agency (EASA) Airworthiness Directive 2006-0206, dated June 11, 2006; EASA Airworthiness Directive 2006-0208, dated July 12, 2006; Fokker 70/100 Fuel Airworthiness Limitation Items (ALI) and Critical Design Configuration Control Limitations (CDCCL) Report SE-672, Issue 2, dated December 1, 2006; and Fokker Service Bulletin SBF28-28-050, Revision 1, dated January 8, 2008; for related information.

Material Incorporated by Reference

(i) You must use Fokker 70/100 Fuel Airworthiness Limitation Items (ALI) and Critical Design Configuration Control Limitations (CDCCL) Report SE-672, Issue 2, dated December 1, 2006; and Fokker Service Bulletin SBF28-28-050, Revision 1, dated January 8, 2008; as applicable; to do the actions required by this AD, unless the AD specifies otherwise.

(1) The Director of the Federal Register approved the incorporation by reference of this service information under 5 U.S.C. 552(a) and 1 CFR part 51.

(2) For service information identified in this AD, contact Fokker Services B.V., P.O. Box 231, 2150 AE Nieuw-Vennep, the Netherlands.

(3) You may review copies at the FAA, Transport Airplane Directorate, 1601 Lind Avenue SW., Renton, Washington; or at the National Archives and Records Administration (NARA). For information on the availability of this material at NARA, call (202) 741-6030, or go to: http://www.archives.gov/federal-register/cfr/ibr-locations.html.

Issued in Renton, Washington, on March 9, 2008.
Stephen P. Boyd,
Assistant Manager, Transport Airplane Directorate, Aircraft Certification Service.

[FR Doc. E8-5142 Filed 3-18-08; 8:45 am]

BILLING CODE 4910-13-P